FEDERAL COMMUNICATIONS COMMISSION

47 CFR Part 73

[DA 02-3431, MB Docket No. 02-280, RM-10558]

Television Broadcast Service; Blanco, TX

AGENCY: Federal Communications Commission.

ACTION: Final rule.

SUMMARY: The Commission, at the request of Univision Television Group, substitutes channel 17 for channel 52+ at Blanco, Texas. See 67 FR 60205, September 25, 2002. TV channel 17 can be allotted to Blanco, Texas, with a zero offset. Since the community of Blanco is located within 275 kilometers of the U.S.-Mexican border, concurrence from the Mexican government has been obtained this allotment. The coordinates for channel 17 at Blanco are North Latitude 29-42-58 and West Longitude 98-30-39. Due to a short spacing, to land mobile channel 17 at Houston, Texas, the use of channel 17 Blanco, Texas, includes a condition. See SUPPLEMENTARY INFORMATION for condition details. With this action, this proceeding is terminated.

DATES: Effective February 3, 2003.

FOR FURTHER INFORMATION CONTACT: Pam Blumenthal, Media Bureau, (202) 418-1600.

SUPPLEMENTARY INFORMATION: The use of channel 17 at Blanco, Texas, includes the following condition: Univision must agree to (1) accept interference from current and future 488-494 MHz land mobile facilities operating from base stations located within 50 miles of the Houston reference point and mobile units operating within 30 miles of their associated base stations; and (2) not radiate a signal in the Houston area where land mobile operation is permitted with a field strength greater than that permitted by a full-power TV station that meets the co-channel distance separation criteria (341.1 km). This is a synopsis of the Commission's Report and Order, MB Docket No. 02-280, adopted December 12, 2002, and released December 19, 2002. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone (202) 863-2893, facsimile (202) 863-2898, or via-e-mail qualexint@aol.com.

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under

Texas, is amended by removing TV channel 52+ and adding TV channel 17 at Blanco.

Federal Communications Commission.
Barbara A. Kreisman,
Chief, Video Division, Media Bureau.

[FR Doc. 02-32285 Filed 12-20-02; 8:45 am]

BILLING CODE 6712-01-P